ENVIRONMENTAL PROTECTION AGENCY

[EPA-HQ-OPP-2010-0014; FRL-9326-6]

Product Cancellation Order for Certain Pesticide Registrations

AGENCY: Environmental Protection Agency (EPA).

ACTION: Notice.

SUMMARY: This notice announces EPA's order for the cancellations, voluntarily requested by the registrants and accepted by the Agency, of the products listed in Tables 1 and 2 of Unit II., pursuant to section 6(f)(1) of the Federal Insecticide, Fungicide, and Rodenticide Act (FIFRA), as amended. This cancellation order follows an April 27, 2011 Federal Register Notice of Receipt of Requests from the registrants listed in Table 3 of Unit II. to voluntarily cancel these product registrations. In the April 27, 2011 notice, EPA indicated that it would issue an order implementing the cancellations, unless the Agency received substantive comments within the 180-day comment period that would merit its further review of these requests, or unless the registrants withdrew their requests. The Agency did not receive any comments on the notice. Further, the Agency received notice from registrants to withdraw certain cancellation requests. Accordingly, EPA hereby issues in this notice a cancellation order granting the requested cancellations. Any distribution, sale, or use of the products subject to this cancellation order is permitted only in accordance with the terms of this order, including any existing stocks provisions.

DATES: The cancellations of the products listed in Tables 1 and 2 are effective October 25, 2011.

FOR FURTHER INFORMATION CONTACT: Maia Tatinclaux, Pesticide Re-evaluation Division (7508P), Office of Pesticide Programs, Environmental Protection Agency, 1200 Pennsylvania Ave. NW., Washington, DC 20460-0001; telephone number: (703) 347-0123; fax number: (703) 308-8090; email address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington VA. The hours of operation of this Docket Facility are from 8:30 a.m. to 4 p.m., Monday through Friday, excluding legal holidays. The Docket Facility telephone number is (703) 305-5805.

II. What action is the agency taking?

This notice announces the cancellation, as requested by registrants, of 128 products registered under FIFRA section 3 and 108 products registered under FIFRA section 24(c). These registrations are listed in sequence by registration number in Tables 1 and 2 of this unit.

Table 2 contains a list of registrations for which companies paying at one of the maintenance fee caps requested cancellation in the FY 2011 maintenance fee billing cycle. Because maintaining these registrations as active would require no additional fee, the Agency is treating these requests as voluntary cancellations under Section 6(f)(1).

Table 1—Product Cancellations
Registration No. | Product name | Chemical name
000432-00961 | Banol C | Chlorothalonil Propamocarb hydrochloride
002749-00545 | Trifluralin Technical | Trifluralin
004822-00513 | Raid FIK Formula H1A | Tetramethrin Permethrin d-Allethrin
007969-00161 | Dazomet Technical | Dazomet
053883-00082 | CSI 30-30 | Piperonyl butoxide Permethrin
053883-00083 | CSI 2-2 ULV | Piperonyl butoxide Permethrin
053883-00085 | CSI 4-4 ULV | Piperonyl butoxide Permethrin
066591-00003 | Green's Clear Wood Preservative | Zinc naphthenate
068708-00008 | EC6107A | N-(coco alkyl)trimethylenediamine
070299-00001 | Zerotol Algaecide Fungicide | Hydrogen peroxide
070299-00002 | Oxidate Broad Spectrum Bactericide/Fungicide | Hydrogen peroxide
070299-00003 | Terracite | Sodium percarbonate
AZ050001 | Riverdale Endurance Herbicide | Prodiamine
AZ050011 | Select Max Herbicide With Inside Technology | Clethodim
AZ060005 | Goaltender | Oxyfluorfen
AZ960003 | Vectobac G Biological Larvacide Granules | Bacillus thuringiensis subsp. Israelensis
AZ980001 | Treflan H.E.P. | Trifluralin
CA030009 | Merit 75 WSP | Imidacloprid
HI090002 | Mite Away Quick Strips | Formic acid
OR060026 | Rozol Pellets | Chlorophacinone
OR080003 | Mustang Max EC Insecticide | Zeta-Cypermethrin
VT900002 | Bonide Orchard Mouse Bait | Zinc phosphide (Zn3P2)
WA050008 | Everest 70% Water Dispersible Granular Herbicide | Flucarbazone-sodium
WA060001 | Manzate 200 DF Fungicide | Mancozeb
WA080012 | Pristine Fungicide | Pyraclostrobin Boscalid

Table 2—Product Cancellations due to Maintenance Fees
Registration No. | Product name | Chemical name
000100-00530 | Methidathion Technical | Methidathion.
000100-00835 | Thiolux Dry Flowable Micronized Sulfur | Sulfur.
000100-01049 | Karate CSO Insecticide | Lambda-cyhalothrin.
000228-00387 | Riverdale Magellan | Phosphorous acid.
000228-00440 | Acephate Tree, Turf & Ornamental Spray 97 | Acephate.
000228-00448 | Multitude 75wsp Insecticide | Acephate.
000228-00487 | Imidacloprid Pco Flowable | Imidacloprid.
000228-00618 | Bifenthrin G-Pro Termiticide/insecticide | Bifenthrin.
000228-00661 | Acephate E-Ag 90 EG Insecticide | Acephate.
000228-00662 | Acephate E 75 WP Insecticide | Acephate.
000228-00667 | Lambda-Cy E-Pro OS Insecticide | Lambda-cyhalothrin.
000228-00669 | Lambda-Cy E-Pro GC Insecticide | Lambda-cyhalothrin.
000239-02515 | Ortho Poison Ivy and Poison Oak Control | Triclopyr,triethylamine salt.
000239-02642 | Bug-B-Gon Insect Killer 1 | Cyfluthrin.
000239-02649 | Bug-B-Gon Ready-Spray Insect Killer | Cyfluthrin.
000239-02650 | Bug-B-Gon Insect Killer Concentrate | Cyfluthrin.
000239-02667 | Grub-B-Gon Granular Insecticide | Benzoic acid,4-chloro-,2-benzoyl-2-(1,1-dimethylethyl)hydrazide.
000239-02669 | Rosepride Rose & Flower Insect Killer—006% | Bifenthrin.
000239-02680 | Ortho Concentrate Bug-B-Gon Multi-Purpose Insect Killer | Esfenvalerate.
000239-02693 | Ortho 0.1% Deltamethrin Granule | Deltamethrin.
000241-00361 | Detail Herbicide | Imazaquin Dimethenamid.
000264-00257 | Ethrel Brand Ethephon Plant Growth Regulator | Ethephon.
000264-00377 | Cerone Brand Ethephon Plant Regulator | Ethephon.
000264-00564 | Finish Brand Harvest Aid for Cotton | Ethephon Cyclanilide.
000264-00585 | Finish Brand 6 Harvest Aid for Cotton | Ethephon.
000270-00230 | Menoke Indoor-Outdoor Dog and Cat Repellent | Methylnonylketone.
000270-00255 | Farnam Die Fly | Methomyl cis-9-Tricosene.
000270-00293 | Repel Granular Dog and Cat Repellent | Methylnonylketone.
000270-00317 | Aeh Concentrate Weed, Grass and Brush Killer | Glufosinate.
000270-00318 | Aeh Ready-To-Use Weed and Grass Killer | Glufosinate.
000270-00342 | Adams Pan-San | 1-Decanaminium,N,N-dimethyl-N-octyl-,chloride 1-Decanaminium,N-decyl-N,N-dimethyl-,chloride 1-Octanaminium,N,N-dimethyl-N-octyl-,chloride Alkyl*dimethylbenzylammoniumchloride* (50%C14,40%C12,10%C16).
000279-03345 | F6135 G Insecticide | Bifenthrin.
000538-00159 | Proturf Fungicide VI | Iprodione.
000538-00163 | Scotts Super Bonus S Weed Control Plus Lawn Fertilizer | Atrazine.
000538-00236 | Private Label Feed and Weed | Mecoprop-P 2-4,D.
000538-00266 | Grubex | Benzoic acid,4-chloro-,2-benzoyl-2-(1,1-dimethylethyl)hydrazide.
000655-00690 | Prentox Pyronyl Horse Insecticide and Fly Repellent | Pyrethrins Butoxypolypropyleneglycol Piperonyl butoxide.
000773-00066 | Ectiban Insecticide Pour-On | Permethrin.
000869-00039 | Green Light Wettable Dusting Sulphur | Sulfur.
000869-00239 | Green Light Com-Pleet 18% Systemic Grass & Weed Killer | Glyphosate-isopropylammonium.
000869-00240 | Green Light Com-Pleet 1.92% Systemic Grass & Weed Killer | Glyphosate-isopropylammonium.
000869-00241 | Green Light Com-Pleet Systemic Grass & Weed Killer | Glyphosate-isopropylammonium.
000869-00244 | Green Light Permethrin Dust | Permethrin.
001381-00206 | Gallant 1.6l | Imidacloprid.
001448-00108 | W-60-7 | Poly(oxy-1,2-ethanediyl(dimethylimino)-1,2-ethanediyl(dimethylimino)-1,2-ethanediyldichloride.
001448-00109 | W-60-6 | Poly(oxy-1,2-ethanediyl(dimethylimino)-1,2-ethanediyl(dimethylimino)-1,2-ethanediyldichloride.
001448-00110 | W-60-5 | Poly(oxy-1,2-ethanediyl(dimethylimino)-1,2-ethanediyl(dimethylimino)-1,2-ethanediyldichloride.
001448-00205 | W-15-3 | Poly(oxy-1,2-ethanediyl(dimethylimino)-1,2-ethanediyl(dimethylimino)-1,2-ethanediyldichloride.
001448-00206 | W-15-4 | Poly(oxy-1,2-ethanediyl(dimethylimino)-1,2-ethanediyl(dimethylimino)-1,2-ethanediyldichloride.
001448-00207 | W-15-5 | Poly(oxy-1,2-ethanediyl(dimethylimino)-1,2-ethanediyl(dimethylimino)-1,2-ethanediyldichloride.
001448-00208 | W-15-6 | Poly(oxy-1,2-ethanediyl(dimethylimino)-1,2-ethanediyl(dimethylimino)-1,2-ethanediyldichloride.
001448-00216 | B-7-1 | Poly(oxy-1,2-ethanediyl(dimethylimino)-1,2-ethanediyl(dimethylimino)-1,2-ethanediyldichloride.
001448-00217 | B-7-2 | Poly(oxy-1,2-ethanediyl(dimethylimino)-1,2-ethanediyl(dimethylimino)-1,2-ethanediyldichloride.
001448-00218 | B-7-3 | Poly(oxy-1,2-ethanediyl(dimethylimino)-1,2-ethanediyl(dimethylimino)-1,2-ethanediyldichloride.
001448-00234 | W-30-3 | Poly(oxy-1,2-ethanediyl(dimethylimino)-1,2-ethanediyl(dimethylimino)-1,2-ethanediyldichloride.
001448-00235 | W-30-4 | Poly(oxy-1,2-ethanediyl(dimethylimino)-1,2-ethanediyl(dimethylimino)-1,2-ethanediyldichloride.
001448-00236 | W-30-5 | Poly(oxy-1,2-ethanediyl(dimethylimino)-1,2-ethanediyl(dimethylimino)-1,2-ethanediyldichloride.
001448-00237 | W-30-6 | Poly(oxy-1,2-ethanediyl(dimethylimino)-1,2-ethanediyl(dimethylimino)-1,2-ethanediyldichloride.
001448-00302 | W-60-9 | Poly(oxy-1,2-ethanediyl(dimethylimino)-1,2-ethanediyl(dimethylimino)-1,2-ethanediyldichloride.
001448-00305 | W-60-10 | Poly(oxy-1,2-ethanediyl(dimethylimino)-1,2-ethanediyl(dimethylimino)-1,2-ethanediyldichloride.
001448-00378 | Busan 1303 | Poly(oxy-1,2-ethanediyl(dimethylimino)-1,2-ethanediyl(dimethylimino)-1,2-ethanediyldichloride.
001529-00035 | Fungitrol 334 Fungicide | Tributyltinbenzoate.
001529-00039 | Nuosept 485 Preservative | 1,2-Benzisothiazolin-3-one.
002217-00332 | Vapona Insecticide Dairy Cattle Spray | Dichlorvos.
002724-00580 | SPI Automatic Fogger | Permethrin.
002724-00581 | Speer Multi-Purpose Insecticide Spray | Permethrin.
003525-00102 | Winter Tablets “W“ | Copper sulfate pentahydrate.
004822-00274 | Raid Formula 274 Insect Killer | Permethrin d-Allethrin.
004822-00277 | Raid Formula 277 Insect Killer | Permethrin d-Allethrin.
004822-00551 | Raid Yard Guard Pld | Permethrin d-Allethrin.
005383-00119 | Polyphase 685 | Ziram Carbamic acid,butyl-,3-iodo-2-propynyl ester.
005383-00131 | Micropel It 10 PVC | Octhilinone.
005785-00062 | Bromo-Tabs | 2,4-Imidazolidinedione,1-bromo-3-chloro-5,5-dimethyl-.
007401-00463 | Hi-Yield (r) Acephate | Acephate.
007969-00122 | Basagran DF Herbicide | 3-Isopropyl-1H-2,1,3-benzothiadiazin-4(3H)-one-2,2-dioxide,sodium salt.
007969-00240 | Bas 500 ST Seed Treatment Fungicide | Pyraclostrobin.
009150-00010 | Cryocide Disinfecting Concentrate | Chlorinedioxide 1-Decanaminium,N-decyl-N,N-dimethyl-,chloride.
009198-00152 | The Andersons PCNB Granular Plus Fertilizer | Pentachloronitrobenzene.
010807-00061 | Misty Dualcide | Phenothrin Tetramethrin.
010807-00074 | Misty Delete 3% Multipurpose Spray | Resmethrin.
010807-00094 | Clear Lemon 10 Disinfectant | Alkyl*dimethylbenzylammoniumchloride*(60%C14,30%C16,5%C18,5%C12) Alkyl*dimethylethylbenzylammoniumchloride*(68%C12,32%C14).
010807-00099 | Misty WK-44 Liquid Weed Killer | Bromacil.
010807-00104 | Misty Clear-Mint 10 | Alkyl*dimethylbenzylammoniumchloride*(60%C14,30%C16,5%C18,5%C12) Alkyl*dimethylethylbenzylammoniumchloride*(68%C12,32%C14).
010807-00111 | Misty Clear-Pyne | Pineoil Alkyl*dimethylbenzylammoniumchloride*(58%C14,28%C16,14%C12).
010807-00123 | Misty Flea Killer | Phenothrin.
010807-00151 | One Shot “foamy” Germicidal Cleaner & Deodorizer RTU | Alkyl*dimethylbenzylammoniumchloride*(60%C14,30%C16,5%C18,5%C12) Alkyl*dimethylethylbenzylammoniumchloride*(68%C12,32%C14).
010807-00178 | Misty Disinfectant and Deodorant RTU | Ethanol o-Phenylphenol 4-tert-Amylphenol.
010807-00182 | Misty 5016 | Phenothrin Tetramethrin.
010807-00183 | Misty 5001 | Permethrin.
010807-00195 | Misty General Purpose Insect Killer with Sumithrin | Phenothrin.
010807-00210 | Weed and Vegetation Killer | Bromacil.
010807-00211 | Misty Gwk-Four | Bromacil.
013799-00026 | Four Paws Protector Quick Kill Flea & Tick Spray | Pyrethrins Permethrin.
033176-00044 | Airysol Brand Moth Sentry | Permethrin.
035935-00071 | Nicosulfuron Technical | Nicosulfuron.
039967-00046 | Preventol Ct-L | Sodium p-chloro-m-cresolate Octhilinone.
039967-00051 | Preventol Hs 100-Cs50 | Deltamethrin.
039967-00060 | TCMTB 80 | 2-(Thiocyanomethylthio)benzothiazole.
039967-00067 | Preventol TC 60 | 2-(Thiocyanomethylthio)benzothiazole.
039967-00072 | TCMTB 30 G | 2-(Thiocyanomethylthio)benzothiazole.
039967-00078 | TCMTB 30 WB | 2-(Thiocyanomethylthio)benzothiazole.
053883-00098 | Prometon 25E | Prometon.
053883-00099 | Prometon 4SC | Prometon.
053883-00100 | S-Methoprene Bait | S-Methoprene.
053883-00235 | Weed Preventer Plus Fertilizer | Trifluralin.
058779-00003 | Steris-Hydrogen Peroxide Sterilant | Hydrogen peroxide.
060063-00031 | Torrent 2F | Imidacloprid.
060063-00032 | Torrent 1.6F | Imidacloprid.
060063-00033 | Torrent 4f | Imidacloprid.
066222-00064 | Thionex Technical Insecticide | Endosulfan.
066330-00218 | Linuron 4L Weed Killer | Linuron.
066330-00222 | Trifluralin 4ec | Trifluralin.
066330-00226 | Trifluralin 4 TSF | Trifluralin.
066330-00270 | Asulam Liquid Herbicide | Asulam,sodium salt.
066330-00357 | Acephate Technical | Acephate.
070506-00193 | Penncap-M Microencapsulated Insecticide | Methyl Parathion.
AL810025 | Sencor Df 75% Dry Flowable Herbicide | Metribuzin.
AR070009 | Endigo ZC | Thiamethoxam Lambda-cyhalothrin.
AR790014 | Sencor 4 Flowable Herbicide | Metribuzin.
AR960006 | Prometryne 4l Herbicide | Prometryn.
AZ050007 | Gaucho 600 Flowable | Imidacloprid.
AZ060003 | Devrinol 50-DF Selective Herbicide | Napropamide.
AZ070008 | Talus 40 SC Insect Growth Regulator | Buprofezin.
CA060010 | Liberty 280 Sl Herbicide | Glufosinate.
CA060011 | Ignite 280 SL Herbicide | Glufosinate.
CA790234 | Sencor DF 75% Dry Flowable Herbicide | Metribuzin.
CA840007 | Sencor DF 75% Dry Flowable Herbicide | Metribuzin.
CA870039 | Sencor DF 75% Dry Flowable Herbicide | Metribuzin.
CA890004 | Sencor DF 75% Dry Flowable Herbicide | Metribuzin.
CA950002 | Metasystox-R Spray Concentrate | Oxydemeton-methyl.
CA970032 | 98-2 | Methyl Bromide.
CO020004 | Flufenacet DF Herbicide | Flufenacet.
DE080002 | Dupont Coragen Insect Control | Chlorantraniliprole.
FL030014 | Switch 62.5wg | Cyprodinil Fludioxonil.
FL040007 | Bravo Weather Stik | Chlorothalonil.
FL080006 | Mocap EC Nematicide—Insecticide | Ethoprop.
FL940005 | Orbit Fungicide | Propiconazole.
FL970008 | 98-2 | Methyl Bromide.
GA040005 | Bravo Weather Stik | Chlorothalonil.
GA800021 | Sencor 4 Flowable Herbicide | Metribuzin.
ID010019 | Axiom Df Herbicide | Metribuzin Flufenacet.
ID060005 | LSP Flowable Fungicide | Thiabendazole.
ID810045 | Sencor 4 Flowable Herbicide | Metribuzin.
ID810046 | Sencor 75 Wettable Granular Herbicide | Metribuzin.
ID870016 | Sencor 4 Flowable Herbicide | Metribuzin.
ID870017 | Sencor DF 75% Dry Flowable Herbicide | Metribuzin.
ID950004 | Sencor DF 75% Dry Flowable Herbicide | Metribuzin.
ID990017 | Starane | Fluroxypyr.
IL080001 | Tree-Age | Emamectin benzoate.
IN080001 | Tree-Age | Emamectin benzoate.
KS040009 | Agrisolutions Atrazine 4l | Atrazine.
KS080001 | Quilt Fungicide | Propiconazole Azoxystrobin.
KY090029 | Tree-Age | Emamectin benzoate.
MD090001 | Tree-Age | Emamectin benzoate.
ME080002 | Dupont Coragen Insect Control | Chlorantraniliprole.
ME790009 | Sencor 4 Flowable Herbicide | Metribuzin.
MI050002 | Actellic 5 E Insecticide | Pirimiphos-methyl.
MI080001 | Tree-Age | Emamectin benzoate.
MI980002 | Transline | 3,6-Dichloro-2-pyridinecarboxylicacid,alkanolaminesalts(of ethanol and isopropanol series.
MN010004 | Flufenacet Df Herbicide | Flufenacet.
MN030016 | Fusilade DX Herbicide | Propanoic acid,2-(4-((5-(trifluoromethyl)-2-pyridinyl)oxy)phenoxy)-,butylester,(R)-.
MN080009 | Tree-Age | Emamectin benzoate.
MO080006 | Tree-Age | Emamectin benzoate.
MO100003 | Callisto Herbicide | Mesotrione.
MO840003 | Sencor DF 75% Dry Flowable Herbicide | Metribuzin.
MS050017 | Bravo Weather Stik | Chlorothalonil.
MS060010 | Yuma 4E | Chlorpyrifos.
MS800002 | Sencor 4 Flowable Herbicide | Metribuzin.
MS970001 | Prowl 3.3 EC Herbicide | Pendimethalin.
MT950007 | Sencor DF 75% Dry Flowable Herbicide | Metribuzin.
NC830012 | Dupont Velpar L Weed Killer | Hexazinone.
NC840005 | Sencor DF 75% Dry Flowable Herbicide | Metribuzin.
ND040010 | Sencor DF 75% Dry Flowable Herbicide | Metribuzin.
ND060004 | LSP Flowable Fungicide | Thiabendazole.
NE020001 | Gustafson LSP Flowable Fungicide | Thiabendazole.
NM950002 | Atroban 11% EC | Permethrin.
NM990004 | Atroban 11% EC | Permethrin.
NV060008 | Baythroid XL | Beta-cyfluthrin.
NY040001 | Sencor Df 75% Dry Flowable Herbicide | Metribuzin.
OK060003 | Gustafson Lsp Flowable Fungicide | Thiabendazole.
OR000003 | Rely Herbicide | Glufosinate.
OR040020 | Guthion Solupak 50% Wettable Powder Insecticide | Azinphos-methyl.
OR060003 | LSP Flowable Fungicide | Thiabendazole.
OR070029 | Define DF Herbicide | Flufenacet.
OR070031 | Define DF Herbicide | Flufenacet.
OR090004 | Nemacur 3 | Fenamiphos.
OR920023 | Diuron 80DF | Diuron.
OR940025 | Diuron 4l | Diuron.
OR990043 | Starane | Fluroxypyr.
PA090001 | Tree-Age | Emamectin benzoate.
RI090003 | Temik Brand 15g Aldicarb Pesticide | Aldicarb.
SD030002 | Trust 4EC | Trifluralin.
SD040008 | Journey Herbicide | Imazapic Glyphosate-isopropylammonium.
SD040010 | Habitat Herbicide | 2-(4,5-Dihydro-4-methyl-4-(1-methylethyl)-5-oxo-1H-imidazol-2-yl)-3-pyridinecarboxylicacid.
SD060007 | LSP Flowable Fungicide | Thiabendazole.
SD980002 | Trifluralin 4EC | Trifluralin.
TX030006 | Dual Magnum Herbicide | S-Metolachlor.
TX070011 | Talus 40 SC Insect Growth Regulator | Buprofezin.
VA080008 | Tree-Age | Emamectin benzoate.
WA000005 | Prowl 3.3 EC Herbicide | Pendimethalin.
WA030025 | Guthion Solupak 50% Wettable Powder Insecticide | Azinphos-methyl.
WA040031 | Sencor Df 75% Dry Flowable Herbicide | Metribuzin.
WA040033 | Sencor DF 75% Dry Flowable Herbicide | Metribuzin.
WA050001 | Rely Herbicide | Glufosinate.
WA060004 | LSP Flowable Fungicide | Thiabendazole.
WA810033 | Temik(r) Aldicarb Pesticide 15% Granular | Aldicarb.
WA900013 | Sevin Brand 80 S Carbaryl Insecticide | Carbaryl.
WI040005 | Echo 720 Agricultural Fungicide | Chlorothalonil.
WI040006 | Echo ZN Agricultural Fungicide | Chlorothalonil.
WI080005 | Tree-Age | Emamectin benzoate.
WV080002 | Tree-Age | Emamectin benzoate.

Table 3 of this unit includes the names and addresses of record for all registrants of the products in Tables 1 and 2 of this unit, in sequence by EPA company number. This number corresponds to the first part of the EPA registration numbers of the products listed in Tables 1 and 2 of this unit.

Table 3—Registrants of Cancelled Products
EPA Company No. | Company name and address
100 | Syngenta Crop Protection, LLC., P.O. Box 18300, Greensboro, NC 27419-8300.
228 | Nufarm Americas Inc., 150 Harvester Dr., Suite 200, Burr Ridge, IL 60527.
239 | The Scotts Co., d/b/a The Ortho Group, P.O. Box 190, Marysville, OH 43040.
241 | BASF Corp., 26 Davis Dr., P.O. Box 13528, Research Triangle Park, NC 27709-3528.
264 | Bayer Cropscience LP, P.O. Box 12014, Research Triangle Park, NC 27709.
270 | Farnam Companies, Inc., d/b/a Central Life Sciences, 301 West Osborn Rd., Phoenix, AZ 85013.
279 | FMC Corp. Agricultural Products Group, Attn: Michael C. Zucker, 1735 Market St. Rm. 1978, Philadelphia, PA 19103.
432 | Bayer Environmental Science, 2 T. W. Alexander Dr., P.O. Box 12014, Research Triangle Park, NC 27709.
538 | The Scotts Co., 14111 Scottslawn Rd., Marysville, OH 43041.
655 | Prentiss, LLC Agent: Pyxis Regulatory Consulting, Inc., 4110 136th Street NW., Gig Harbor, WA 98332.
773 | Intervet, Inc., 556 Morris Ave., S5-2145A, Summit, NJ 07901.
869 | Valent U.S.A Corp. Agent For: Green Light Co., 1101 14th St. NW., Suite 1050, Washington, DC 20005.
1381 | Winfield Solutions, LLC, P.O. Box 64589, St. Paul, MN 55164-0589.
1448 | Buckman Laboratories Inc., 1256 North Mclean Blvd., Memphis, TN 38108.
1529 | International Specialty Products, 1361 Alps Rd., Wayne, NJ 07470.
2217 | PBI/Gordon Corp., P.O. Box 014090, Kansas City, MO 64101-0090.
2724 | Wellmark International, 1501 E. Woodfield Rd., Suite 200, W. Schaumburg, IL 60173.
2749 | Aceto Agricultural Chemicals Corp., One Hollow Lane, Lake Success, NY 11042-1215.
3525 | Qualco Inc., 225 Passaic St., Passaic, NJ 07055.
4822 | S.C. Johnson & Son, Inc., 1525 Howe St., Racine, WI 53403.
5383 | Troy Chemical Corp., P.O. Box 955, Florham Park, NJ 07932-4200.
5785 | Great Lakes Chemical Corporation Agent: Chem Corp., 1801 Highway 52, West Lafayette, IN 47996-2200.
7401 | Mandava Associates, LlC Agent For: Voluntary Purchasing Groups, Inc., 6860 N. Dallas Pkwy., Suite 200, Plano, TX 75024.
7969 | BASF Corp. Agricultural Products, P.O. Box 13528, Research Triangle Park, NC 27709-3528.
9150 | International Dioxcide Inc., 40 Whitecap Dr., North Kingstown, RI 02852.
9198 | The Andersons Lawn Fertilizer Division, Inc., dba/Free Flow Fertilizer, P.O. Box 119, Maumee, OH 43537.
10807 | Amrep, Inc., 990 Industrial Park Dr., Marietta, GA 30062.
13799 | Four Paws Products Ltd., 50 Wireless Blvd., Hauppauge, NY 11788.
33176 | Amrep, Inc. 990, Industrial Park Dr., Marietta, GA 30062.
35935 | Nufarm Limited, PO Box 13439, Research Triangle Park, NC 27709.
39967 | Lanxess Corp., 111 Ridc Park W. Dr., Pittsburgh, PA 152751112.
53883 | Control Solutions, Inc., 5903 Genoa-Red Bluff Rd., Pasadena, TX 77507-1041.
58779 | Steris Corp., P.O. Box 147, St. Louis, MO 63166-0647.
60063 | Sipcam Agro USA, Inc., 2520 Meridian Pkwy., Suite 525, Durham, NC 27713.
66222 | Makhteshim-Agan of North America, Inc., 4515 Falls of Neuse Rd., Suite 300, Raleigh, NC 27609.
66330; WA050008 | Arysta Lifescience North America, LLC, 15401 Weston Pkwy., Suite 150, Cary, NC 27513.
66591 | Green Products Co., 810 Market Ave., Richmond, CA 94801-1325.
68708 | Nalco Company, 1601 W. Diehl Rd., Naperville, IL 60563.
70299 | Biosafe Systems, LLC, 22 Meadow St., East Hartford, CT 06108.
70506 | United Phosphorus, Inc., 630 Freedom Business Center, Suite 402, King of Prussia, PA 19406.
MS970001; SD040008; SD040010; WA000005; WA080012 | BASF Corp., P.O. Box 13528, Research Triangle Park, NC 27709-3528.
AL810025; AR790014; AZ050007; CA060010; CA060011; CA790234; CA840007; CA870039; CA890004; CO020004; FL080006; GA800021; ID010019; ID060005; ID810045; ID810046; ID870016; ID870017; ID950004; ME790009; MN010004; MO840003; MS800002; MT950007; NC840005; ND040010; ND060004; NE020001; NV060008; NY040001; OK060003; OR000003; OR040020; OR060003; OR070029; OR070031; OR090004; RI090003; SD060007; WA030025; WA040031; WA040033; WA050001; WA060004; WA810033; WA900013 | Bayer Cropscience, LP, P.O. Box 12014, Research Triangle Park, NC 27709.
VT900002 | Bonide Products, Inc., Agent: Registrations by Design Inc., P.O. Box 1019, Salem, VA 24153-3805.
CA030009 | Department of Pesticide Regulation, 1001 I St., P.O. Box 4015, Sacramento, CA 95812-4015.
ID990017; MI980002; OR990043; AZ060005; AZ980001 | Dow Agrosciences LlC, 9330 Zionsville Rd. 308/2e, Indianapolis, IN 46268-1054.
DE080002; ME080002; NC830012 | E. I. Du Pont De Nemours & Co., Inc. (s300/419), Attn: Manager, US Registration, Dupont Crop Protection Wilmington, DE 19898-0001.
OR080003 | FMC Corporation, Agricultural Products Group, 1735 Market Street, Rm. 1978, Philadelphia, PA 19103.
FL040007; GA040005; MS050017 | GB Biosciences Corp., P.O. Box 18300, Greensboro, NC 27419-5458.
CA950002 | Gowan Co., P.O. Box 5569, Yuma, AZ 85366-5569.
WA060001 | Griffin L.L.C., AGENT: DuPont Crop Protection/Stine-Haskell Research Center, P.O. Box 30, Newark, DE 19714-0030.
CA970032; FL970008 | ICL-IP America, Inc., 95 Maccorkle Ave. SW., South Charleston, WV 25303.
NM950002 ; NM990004 | Intervet, Inc., 56 Livingston Ave. R-3-3153g, Roseland, NJ 70698.
OR060026 | Liphatech, Inc., 3600 West Elm St., Milwaukee, WI 53209.
TX070011; AZ070008 | Nichino America, Inc., 4550 New Linden Hill Rd., Suite 501, Wilmington, DE.
HI090002 | Nod Apiary Products USA, Inc., 8345 NW 66th Street #8418, Miami, FL 33166-2626.
AZ050001 | Nufarm Americas Inc., 150 Harvester Dr., Suite 200, Burr Ridge, IL 60527.
WI040005; WI040006 | Sipcam Agro USA, Inc., 2520 Meridian Pkwy., Suite 525, Durham, NC 27713.
AR070009; FL030014; FL940005; IL080001; IN080001; KS080001; KY090029; MD090001; MI080001; MN030016; MN080009; MO080006; MO100003; PA090001; TX030006; VA080008; WI080005; WV080002 | Syngenta Crop Protection, Inc., Attn: Regulatory Affairs, P.O. Box 18300, Greensboro, NC 27419-8300.
AZ060003 | United Phosphorus, Inc., 630 Freedom Business Center, Suite 402, King of Prussia, PA 19406.
AZ050011; AZ960003 | Valent U.S.A. Corporation, 1600 Riviera Ave., Suite 200, Walnut Creek, CA 94596.
AR960006; KS040009; MI050002; MS060010; OR920023; OR940025; SD030002; SD980002 | Winfield Solutions, LLC, P.O. Box 64589, St. Paul, MN 55164-0589.

III. Summary of Public Comments Received and Agency Response to Comments

During the public comment period provided, EPA received no comments in response to the April 27, 2011 Federal Register notice (76 FR 23588) (FRL-8870-6) announcing the Agency's receipt of the requests for voluntary cancellations of products listed in Tables 1 and 2 of Unit II. A list of products that were included in the April 27, 2011 Federal Register notice, but have been omitted from this cancellation order due to previous cancellation or withdrawal by the registrant will be placed in the docket.

IV. Cancellation Order

Pursuant to FIFRA section 6(f), EPA hereby approves the requested cancellations of the registrations identified in Tables 1 and 2 of Unit II. Accordingly, the Agency hereby orders that the product registrations identified in Tables 1 and 2 of Unit II. are cancelled. The effective date of the cancellations in Tables 1 and 2 that are subject to this notice is October 25, 2011. Any distribution, sale, or use of existing stocks of the products identified in Tables 1 and 2 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of April 27, 2011. The comment period closed on October 24, 2011.

VI. Provisions for Disposition of Existing Stocks

Existing stocks are those stocks of registered pesticide products which are currently in the United States and which were packaged, labeled, and released for shipment prior to the effective date of the cancellation action. The existing stocks provisions for the products subject to this order are as follows.

A. Registrations Listed in Table 1 of Unit II

The registrants may continue to sell and distribute existing stocks of products listed in Table 1 of Unit II. until December 28, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

B. Registrations Listed in Table 2 of Unit II Except CA970032 and FL970008

The registrants may sell and distribute existing stocks of these products until January 15, 2012, 1 year after the date on which the maintenance fee was due. Thereafter, the registrants are prohibited from selling or distributing the pesticides identified in Table 2 of Unit II., except for export consistent with FIFRA section 17 or for proper disposal. Persons other than registrants are allowed to sell, distribute, or use existing stocks until such stocks are exhausted, provided that such sale, distribution, or use is consistent with the terms of the previously approved labeling on, or that accompanied, the cancelled products.

C. Registration Numbers CA970032 and FL970008

Mitigation measures included as part of the Reregistration Eligibility Decision (RED) for methyl bromide are being implemented in two phases. The first phase of mitigation is required to be placed on all product labels in 2011.To ensure that all methyl bromide products in the marketplace have the same protections at the same time, the following are the existing stocks provisions for the cancellation of registration numbers CA970032 and FL970008. The registrants may sell and distribute existing stocks of these products until December 31, 2011. Thereafter, the registrants are prohibited from selling and distributing the pesticides identified in Table 2 of Unit II., except for export consistent with FIFRA section 17 or for proper disposal. Persons other than registrants are allowed to sell and distribute existing stocks through April 30, 2012. After December 28, 2011, remaining stocks may be used until such stocks are exhausted, provided that such use is consistent with the terms of the previously approved labeling on, or that accompanied, the cancelled products.

List of Subjects

Environmental protection, Pesticides and pests.

Dated: November 17, 2011.
Richard P. Keigwin, Jr.
Director, Pesticide Re-evaluation Division, Office of Pesticide Programs.

[FR Doc. 2011-33252 Filed 12-27-11; 8:45 am]

BILLING CODE 6560-50-P